DEPARTMENT OF TRANSPORTATION

Federal Aviation Administration

14 CFR Part 39

[Docket No. FAA-2012-0017; Directorate Identifier 2011-CE-039-AD; Amendment 39-16994; AD 2012-06-13]

RIN 2120-AA64

Airworthiness Directives; DG Flugzeugbau GmbH Gliders

AGENCY: Federal Aviation Administration (FAA), Department of Transportation (DOT).

ACTION: Final rule.

SUMMARY: We are adopting a new airworthiness directive (AD) for DG Flugzeugbau GmbH Models DG-500 Elan Orion, DG-500 Elan Trainer, DG-500/20 Elan, DG-500/22 Elan, DG-500M, and DG-500MB gliders. This AD results from mandatory continuing airworthiness information (MCAI) issued by an aviation authority of another country to identify and correct an unsafe condition on an aviation product. The MCAI describes the unsafe condition as damage to the bulkhead of the glider's center of gravity (CG) tow hook that, if not detected and corrected, may lead to failure of the fiberglass structure during a winch launch. We are issuing this AD to require actions to address the unsafe condition on these products.

DATES: This AD is effective May 4, 2012.

The Director of the Federal Register approved the incorporation by reference of certain publications listed in the AD as of May 4, 2012.

ADDRESSES: You may examine the AD docket on the Internet at http://www.regulations.gov or in person at Document Management Facility, U.S. Department of Transportation, Docket Operations, M-30, West Building Ground Floor, Room W12-140, 1200 New Jersey Avenue SE., Washington, DC 20590.

For service information identified in this AD, contact DG-Flugzeugbau GmbH, Otto-Lilienthal-Weg 2, 76646 Bruchsal, Federal Republic of Germany; telephone: +49 (0) 7251 3020140, fax: +49 (0) 7251 3020149; email: dirks@dg-flugzeugbau.de; Internet: www.dg-flugzeugbau.de. You may review copies of the referenced service information at the FAA, Small Airplane Directorate, 901 Locust St., Kansas City, Missouri 64106. For information on the availability of this material at the FAA, call (816) 329-4148.

FOR FURTHER INFORMATION CONTACT: Jim Rutherford, Aerospace Engineer, FAA, Small Airplane Directorate, 901 Locust St., Room 301, Kansas City, Missouri 64106; telephone: (816) 329-4165; fax: (816) 329-4090; email: jim.rutherford@faa.gov.

SUPPLEMENTARY INFORMATION:

Discussion

We issued a notice of proposed rulemaking (NPRM) to amend 14 CFR part 39 to include an AD that would apply to the specified products. That NPRM was published in the Federal Register on January 17, 2012 (77 FR 2234). That NPRM proposed to correct an unsafe condition for the specified products. The MCAI states:

Occurrence of damage of the bulkhead of CG tow hook and its glued joints to fuselage shell was reported.

Investigation concluded that this damage may occur after wheel up landing.

Damage of bulkheads for CG tow hook of the sailplane or powered sailplane, if not detected and corrected, may lead to failure of glass fibre structure during a winch launch.

DG-Flugzeugbau GmbH developed and published Technical Note (TN) No 500/04 with the associated Working Instruction No. 1 to detect and correct damaged CG tow hook bulkhead and its glued joints.

For the above-mentioned reasons, this AD requires a one-time inspection of the CG tow hook and its reinforcement.

You may obtain further information by examining the MCAI in the AD docket.

Comments

We gave the public the opportunity to participate in developing this AD. We received no comments on the NPRM (77 FR 2234, January 17, 2012) or on the determination of the cost to the public.

Conclusion

We reviewed the relevant data and determined that air safety and the public interest require adopting the AD as proposed except for minor editorial changes. We have determined that these minor changes:

• Are consistent with the intent that was proposed in the NPRM (77 FR 2234, January 17, 2012) for correcting the unsafe condition; and

• Do not add any additional burden upon the public than was already proposed in the NPRM (77 FR 2234, January 17, 2012).

The MCAI requires you to inspect the CG tow hook bulkhead for damage and reinforce the bulkhead.

Costs of Compliance

We estimate that this AD will affect 16 products of U.S. registry. We also estimate that it will take about 5 work-hours per product to comply with the basic requirements of this AD. The average labor rate is $85 per work-hour. Required parts will cost about $1,030 per product.

Based on these figures, we estimate the cost of the AD on U.S. operators to be $23,280, or $1,455 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov; or in person at the Docket Management Facility between 9 a.m. and 5 p.m., Monday through Friday, except Federal holidays. The AD docket contains the NPRM (77 FR 2234, January 17, 2012), the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-06-13 DG Flugzeugbau GmbH: Amendment 39-16994; Docket No. FAA-2012-0017; Directorate Identifier 2011-CE-039-AD.

(a) Effective Date

This airworthiness directive (AD) becomes effective May 4, 2012.

(b) Affected ADs

None.

(c) Applicability

This AD applies to DG Flugzeugbau GmbH Models DG-500 Elan Orion, DG-500 Elan Trainer, DG-500/20 Elan, DG-500/22 Elan, DG-500M, and DG-500MB gliders, all serial numbers (S/N), certificated in any category.

(d) Subject

Air Transport Association of America (ATA) Code 53: Fuselage.

(e) Reason

This AD was prompted by damage to the bulkhead of the glider's center of gravity (CG) tow hook that, if not detected and corrected, may lead to failure of the fiberglass structure during a winch launch. We are issuing this AD to require actions to address the unsafe condition on these products.

(f) Actions and Compliance

Unless already done, do the following actions:

(1) For all gliders: Within 30 days after May 4, 2012 (the effective date of this AD), inspect the bulkhead of the CG tow hook and the bulkhead's glued joints for damage following DG Flugzeugbau GmbH Technical Note No. 500/04, dated August 30, 2011; and DG Flugzeugbau Working Instruction No. 1 for TN500/04, dated August 30, 2011.

(2) For all gliders: If you find damage during the inspection required by paragraph (f)(1) of this AD, before further flight, reinforce the bulkhead of the CG tow hook following DG Flugzeugbau GmbH Technical Note No. 500/04, dated August 30, 2011; and DG Flugzeugbau Working Instruction No. 1 for TN500/04, dated August 30, 2011.

(3) For all gliders: Unless already done as required by paragraph (f)(2) of this AD, within 5 months after May 4, 2012 (the effective date of this AD), reinforce the bulkhead of the CG tow hook following DG Flugzeugbau GmbH Technical Note No. 500/04, dated August 30, 2011; and DG Flugzeugbau Working Instruction No. 1 for TN500/04, dated August 30, 2011.

(4) For gliders with S/N 5E1 through S/N 5E23: While doing the modification required by paragraph (f)(2) or (f)(3) of this AD, install a new adapted tow hook access cover following DG Flugzeugbau GmbH Technical Note No. 500/04, dated August 30, 2011; and DG Flugzeugbau Working Instruction No. 1 for TN500/04, dated August 30, 2011.

(5) For all gliders: Although the European Aviation Safety Agency (EASA) MCAI and DG Flugzeugbau GmbH Technical Note No. 500/04, dated August 30, 2011, allow the inspection required by paragraph (f)(1) of this AD to be done by a pilot-owner, the U.S. regulatory system requires all actions of this AD to be done by a certified mechanic.

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI EASA AD No.: 2011-0209, dated October 26, 2011; DG Flugzeugbau GmbH TN No 500/4, dated August 30, 2011; and DG Flugzeugbau Working Instruction No. 1, dated August 30, 2011, for related information.

(i) Material Incorporated by Reference

(1) You must use the following service information to do the actions required by this AD, unless the AD specifies otherwise. The Director of the Federal Register approved the incorporation by reference (IBR) under 5 U.S.C. 552(a) and 1 CFR part 51 of the following service information:

(i) DG Flugzeugbau GmbH Technical Note No. 500/04, dated August 30, 2011; and

(ii) DG Flugzeugbau Working Instruction No. 1 for TN500/04, dated August 30, 2011.

(2) For service information identified in this AD, contact DG-Flugzeugbau GmbH, Otto-Lilienthal-Weg 2, 76646 Bruchsal, Federal Republic of Germany; telephone: +49 (0) 7251 3020140, fax: +49 (0) 7251 3020149; email: dirks@dg-flugzeugbau.de; Internet: www.dg-flugzeugbau.de.

(3) You may review copies of the service information at the FAA, Small Airplane Directorate, 901 Locust, Kansas City, Missouri 64106. For information on the availability of this material at the FAA, call (816) 329-4148.

(4) You may also review copies of the service information that is incorporated by reference at the National Archives and Records Administration (NARA). For information on the availability of this material at an NARA facility, call 202-741-6030, or go to http://www.archives.gov/federal_register/code_of_federal_regulations/ibr_locations.html.

Issued in Kansas City, Missouri, on March 19, 2012.
Earl Lawrence,
Manager, Small Airplane Directorate, Aircraft Certification Service.

[FR Doc. 2012-7002 Filed 3-29-12; 8:45 am]

BILLING CODE 4910-13-P